FEDERAL RESERVE SYSTEM

Agency Information Collection Activities: Announcement of Board Approval Under Delegated Authority and Submission to OMB

AGENCY: Board of Governors of the Federal Reserve System.

SUMMARY: Notice is hereby given of the final approval of a proposed information collection by the Board of Governors of the Federal Reserve System (Board) under OMB delegated authority. Board-approved collections of information are incorporated into the official OMB inventory of currently approved collections of information. Copies of the Paperwork Reduction Act Submission, supporting statements and approved collection of information instrument(s) are placed into OMB's public docket files. The Federal Reserve may not conduct or sponsor, and the respondent is not required to respond to, an information collection that has been extended, revised, or implemented on or after October 1, 1995, unless it displays a currently valid OMB control number.

FOR FURTHER INFORMATION CONTACT: Federal Reserve Board Clearance Officer—Nuha Elmaghrabi—Office of the Chief Data Officer, Board of Governors of the Federal Reserve System, Washington, DC 20551 (202) 452-3829. Telecommunications Device for the Deaf (TDD) users may contact (202) 263-4869, Board of Governors of the Federal Reserve System, Washington, DC 20551.

OMB Desk Officer—Shagufta Ahmed—Office of Information and Regulatory Affairs, Office of Management and Budget, New Executive Office Building, Room 10235 725 17th Street NW., Washington, DC 20503.

Final approval under OMB delegated authority of the extension for three years, without revision, of the following reports:

1. Report title: Written Security Program for State Member Banks.

Agency form number: FR 4004.

OMB control number: 7100-0112.

Frequency: On occasion.

Reporters: State member banks.

Number of respondents: 45.

Estimated average hours per response: 0.5 hours.

Estimated annual reporting hours: 23 hours.

Abstract: The board of directors of each state member bank must designate a security officer to assume the responsibility for the development and administration of a written security program within 180 days of opening for business. Each state member bank must develop and implement a written security program for the bank's main office and branches and maintain it in the bank's records. The designated security officer must report at least annually to the bank's board of directors on the implementation, administration, and effectiveness of the written security program. There is no formal reporting form and the information is not submitted to the Federal Reserve.

Legal authorization and confidentiality: This recordkeeping requirement is mandatory pursuant to section 3 of the Bank Protection Act (12 U.S.C. 1882(a)) and Regulation H (12 CFR 208.61). Because written security programs are maintained at state member banks, no issue of confidentiality under the Freedom of Information Act (FOIA) normally arises. However, copies of such documents included in examination work papers would, in such form, be confidential pursuant to exemption 8 of FOIA (5 U.S.C. 552(b)(8)). In addition, the records may also be exempt from disclosure under exemption 4 of FOIA (5 U.S.C. 552(b)(4)).

Current Actions: On February 23, 2016, the Board published a notice in the Federal Register (81 FR 8958) requesting public comment for 60 days on the proposal to extend the FR 4004 for three years without revision. The comment period for the notice expired on April 25, 2016. The Federal Reserve did not receive any comments, and the information collection will be extended as proposed.

2. Report title: Risk-Based Capital Guidelines: Market Risk.

Agency form number: FR 4201.

OMB control number: 7100-0314.

Frequency: Varied—some requirements are done at least quarterly and some at least annually.

Reporters: State member banks, bank holding companies, and certain savings and loan holding companies.

Number of respondents: 28.

Estimated burden per respondent: 1,964 hours.

Total estimated annual burden: 54,992 hours.

Abstract: The market risk rule is an important component of the Board's regulatory capital framework (12 CFR 217) that requires banking organizations to measure and hold capital to cover their exposure to market risk. On July 2, 2013, the Federal Reserve adopted a revised regulatory capital framework, including the market risk rule, which was expanded to include certain savings and loan holding companies. The information-collection requirements in the market risk rule provide the most current statistical data available to identify areas of market risk on which to focus for onsite and offsite examinations and allow the Federal Reserve to assess and monitor the levels and components of each reporting institution's risk-based capital requirements for market risk and the adequacy of the institution's capital under the market risk rule. The reporting, recordkeeping, and disclosure requirements are found in sections 12 CFR 217.203-217.210, and 217.212. These requirements enhance risk sensitivity and introduce requirements for public disclosure of certain qualitative and quantitative information about a financial institution's market risk. There are no required reporting forms associated with this information collection.

Legal authorization and confidentiality: The FR 4201 is authorized under 12 U.S.C. 324, 1844(c), and 1467a(b)(2)(A). Information collected pursuant to the reporting requirements of the FR 4201 (specifically, information related to seeking regulatory approval for the use of certain incremental and comprehensive risk models and methodologies under sections 217.208 and 217.209) is exempt from disclosure pursuant to exemption (b)(8) of FOIA (5 U.S.C 552(b)(8)), and exemption (b)(4) of FOIA (5 U.S.C. 552(b)(4)). Exemption (b)(8) applies because the reported information is contained in or related to examination reports. Exemption (b)(4) applies because the information provided to obtain regulatory approval of the incremental or comprehensive risk models is confidential business information the release of which could cause substantial competitive harm to the reporting company. The recordkeeping requirements of the FR 4201 require banking organizations to maintain documentation regarding certain policies and procedures, trading and hedging strategies, and internal models. These documents would remain on the premises of the banking organizations and accordingly would not generally be subject to a FOIA request. To the extent these documents are provided to the regulators, they would be exempt under exemption (b)(8), and may be exempt under exemption (b)(4). Exemption (b)(4) protects from disclosure “trade secrets and commercial or financial information obtained from a person and privileged or confidential.” The disclosure requirements of the FR 4201 do not raise any confidentiality issues because they require banking organizations to make certain information public.

Current Actions: On February 23, 2016, the Board published a notice in the Federal Register (81 FR 8958) requesting public comment for 60 days on the proposal to extend the FR 4201 for three years without revision. The comment period for the notice expired on April 25, 2016. The Federal Reserve did not receive any comments, and the information collection will be extended as proposed.

Board of Governors of the Federal Reserve System, May 23, 2016.
Robert deV. Frierson,
Secretary of the Board.

[FR Doc. 2016-12470 Filed 5-25-16; 8:45 am]

BILLING CODE 6210-01-P